DEPARTMENT OF COMMERCE

National Oceanic and Atmospheric Administration

[Docket No. 010710173-1173-01; I.D. 050201A]

RIN: 0648-AO91

Mid-Atlantic Fishery Management Council; Request for Research Proposals (RFP)

AGENCY: National Marine Fisheries Service (NMFS), National Oceanic and Atmospheric Administration (NOAA), Commerce.

ACTION: Notice of solicitation for applications.

SUMMARY: NMFS announces a research set-aside program and describes how the application and selection process for research projects to be funded by a set-aside from the Total Allowable Landings (TAL) of selected species will operate. The award of set-aside from the TAL of selected species is contingent upon the approval of Framework Adjustment 1 to the Mid-Atlantic Fishery Management Council’s (Council’s) Atlantic Mackerel, Squid, and Butterfish; Summer Flounder, Scup, and Black Sea Bass; Bluefish; and Tilefish Fishery Management Plans (FMPs) (Framework 1). Framework 1 and the Council setting appropriate research quotas will be the subject of future rulemaking. In anticipation of final approval of Framework 1, which is not the subject of this notice, NMFS is soliciting proposals for research activities concerning the summer flounder, scup, black sea bass, Loligo squid, Illex squid, Atlantic mackerel, butterfish, bluefish, and tilefish fisheries.

DATES: All research proposals to be considered under this solicitation must be received between July 25 2001 and 5:00 p.m., EST, on August 24, 2001, in the Northeast Regional Office (see ADDRESSES). Postmarks will not be sufficient. Facsimile applications will not be accepted. For further information related to the timeframe for review and selection of proposals to be conducted with research quota set-asides, see Section A, Background, under SUPPLEMENTARY INFORMATION.

ADDRESSES: Proposals must be submitted to Patricia A. Kurkul, Regional Administrator, NMFS, Northeast Regional Office, 1 Blackburn Drive, Gloucester, MA 01930. Mark proposals “Attention: Mid-Atlantic Research Proposals.”

Copies of the Standard Forms for submission of research proposals may be found on the Internet in a PDF (Portable Document Format) version at http://www.ofa.noaa.gov/ÿ7Egrants/index.html under the title “Grants Management Forms,” or by contacting the Council office (see FOR FURTHER INFORMATION CONTACT).

FOR FURTHER INFORMATION CONTACT: Daniel Furlong, Executive Director, Mid-Atlantic Fishery Management Council, (302) 674-2331 or David Gouveia, Fishery Policy Analyst, NMFS, (978) 281-9280.

SUPPLEMENTARY INFORMATION:

A. Background

Framework 1 to the FMPs has been submitted by the Council to NMFS for review. If approved, Framework 1, which will be the subject of a rulemaking published in the Federal Register at a later date, would establish a procedure through which research set-aside amounts would be set annually as part of the Council’s quota-setting process. The set-asides could range between 0 and 3 percent of each species' TAL. It is intended that the set-aside allocated for a given species be utilized primarily for research involving that species. However, to promote research in those cases where it would otherwise be infeasible, individual research projects could involve allocations from the set-asides for several of the species listed in this notice. Therefore, in addition to applying for part of the set-aside involving a species directly involved in a research project, applicants may also apply for up to 25 percent of the research set-aside quota for species not directly involved in a particular research project. NMFS anticipates issuing exempted fishing permits (EFPs) to authorize the research as well as additional voyages to take compensation fish where appropriate. Regulations at 50 CFR 600.745 are intended to provide for analysis and public notice prior to issuing EFPs. The process in Framework 1 would meet those analytical and public notice requirements.

To be eligible for consideration, a research proposal to be conducted with a research set-aside allocation for the 2002 fishing year must be received during the application period identified in the DATES section of this document. Applicants must submit one signed original and two signed copies of the completed application (including supporting information). Prior to selection, NOAA will convene a panel to review proposals submitted in response to this RFP. The panel will provide its recommendations to NOAA no later than August 30, 2001.

The Council, in consultation with the Atlantic States Marine Fisheries Commission (Commission), will incorporate the level of research set-aside (percentages) for the 2002 fishing year into the Council's annual quota specification packages submitted to NMFS. It is anticipated that most proposals will request that vessels conducting research be exempt from certain regulations for that fishery. The impacts of such regulatory exemption must be analyzed. To ease the burden on researchers, the analysis of the impacts associated with the anticipated exemptions will be included as part of the annual quota specification packages submitted by the Council. This process is intended to satisfy the analytical and public notice provisions of the Exempted Fishing Permit (EFP) regulations at 50 CFR 600.745. However, certain conditions may require the applicant to provide additional analysis associated with regulatory exemptions (see section N of this notice).

The actual level of research set-aside quota available to researchers for the 2002 fishing year will depend on the TAL level specified by the Council at its quota-setting meetings in June and August, 2001, and on the percentage (0 to 3 percent) of the TAL specified by the Council. To help researchers develop proposals for the 2002 fishing year, the table below provides some guidance on the general magnitude of research set-asides and estimated values that a researcher might expect to be available for fishing year 2002. The table is based on TAL levels for these fisheries for the 2001 fishing year and assumes the Council allocates the maximum set-aside level of 3 percent of the TAL. The table is intended only as a guide to be used when developing research proposals for the 2002 fishing year. It does not reflect the actual research set-aside quota that may be allocated for fishing year 2002. Those amounts will be recommended by the Council at its June and August meetings and must be approved by NMFS. The Council could choose to recommend less than 3 percent of TAL as a set-aside, or could decide not to recommend any set-aside for a given fishery. The estimated values will vary depending on market considerations prevailing at the time the research trips are conducted.

Species | Example of 3 Percent Research Set-aside Allocation: (lb) | Example of 3 Percent Research Set-aside Allocation: (kg) | Estimated Value ($)
Summer Flounder | 537,300 | 243,719 | 902,664
Scup | 186,600 | 84,642 | 236,982
Black Sea Bass | 185,100 | 83,961 | 318,372
Loligo Squid | 1,124,339 | 510,000 | 865,741
Illex Squid | 1,587,302 | 720,000 | 365,079
Atlantic Mackerel | 5,621,693 | 2,550,000 | 730,820
Butterfish | 390,013 | 176,910 | 222,307
Bluefish | 1,135,200 | 514,927 | 431,376
Tilefish | 59,850 | 27,148 | 148,428

B. Authority

Issuing grants is consistent with sections 303(b)(11), 304(e), and 404(c) of the Magnuson-Stevens Fishery Conservation and Management Act, 16 U.S.C. 1801 et seq.

C. Catalog of Federal Domestic Assistance (CFDA)

11.454, Unallied Management Projects

D. Funding Instrument and Project Period

In consultation with NMFS, the NOAA Grants Office will award a grant to successful applicants through the NOAA grant award process. The project period for all research is January 1, 2002, through December 31, 2002, with the exception of any approved projects concerning the tilefish fishery. The project period for any tilefish research under the set-aside program will be based upon the effective date of the regulations implementing the Tilefish FMP and establishing the start date of the fishing year for tilefish. It is anticipated that the project period for any research concerning tilefish would likely be summer 2002 through summer 2003. Proposals to fund research that was started prior to or that would be completed after the project period will not be considered.

E. Funding Availability

No Federal funds are provided for research under this notification. The Federal Government's contribution to the project will be an EFP, which will provide special fishing privileges in response to research proposals selected under this program. The Federal Government shall not be liable for any costs incurred in the conduct of the project. Any funds generated from the landings authorized in the EFP shall be used to cover the cost of the research, including vessel costs, and to compensate vessel owners for expenses incurred. Therefore, the owner of each fishing vessel selected to land a species in excess of a trip limit or seasonal quota must use the proceeds of the sale of the excess catch to compensate the researcher for costs associated with the research activities and use of the vessel. Any additional funds above the cost of the research activities (or excess program income) shall be retained by the vessel owner as compensation for the use of his/her vessel.

F. Scope of Research

Projects funded under the research quota set-aside program should enhance understanding of the fishery resource or contribute to the body of information on which management decisions are made. Research, as well as additional voyages to obtain compensation fish, may be conducted, as specified in the EFP, in or outside of a closed area, within the timeframe of a commercial quota closure, and onboard a fishing or other type of vessel, including recreational and/or commercial vessels. Research conducted with these research quota set-aside allocations need not involve the harvest of these specific species.

Funds generated from the research quota set-aside landings shall be used to cover the cost of the research activities, including vessel costs, and to compensate boats for expenses incurred during the collection of the set-aside species. For example, the funds could be used to pay for gear modifications, monitoring equipment, additional provisions (e.g., fuel, ice, food for scientists), or the salaries of research personnel. The Federal Government is not liable for any costs incurred by the researcher or vessel owner should the sale of the excess catch not fully reimburse the researcher or vessel owner for their expenses.

G. Eligibility Criteria

All commercial organizations; non-profit organizations; state, local or tribal governments; institutions of higher education; and individuals are eligible to apply, provided that all proposal requirements are satisfied and the proposal is received by the date specified in this document.

Pursuant to Executive Orders 12876, 12900, and 13021, the Department of Commerce, National Oceanic and Atmospheric Administration (DOC/NOAA) is strongly committed to broadening the participation of Historically Black Colleges and Universities, Hispanic Serving Institutions, and Tribal Colleges and Universities in its educational and research programs. The DOC/NOAA vision, mission and goals are to achieve full participation by Minority Serving Institutions (MSIs) in order to advance the development of human potential, to strengthen the Nation's capacity to provide high-quality education, and to increase opportunities for MSIs to participate in, and benefit from, Federal financial assistance programs. DOC/NOAA encourages all applicants to include meaningful participation of MSIs.

H. Proposal Requirements

Proposals must be submitted to NOAA and must identify the research to be conducted and the total amount of the set-aside species requested for the project, including their approximate cash value. If a waiver of Federal regulations is required, a list of the specific regulations to be waived and a brief justification for such a waiver must be included with the proposal.

In addition, each proposal must identify the requirements for the participating vessel(s) that would make a trip to collect the set-aside species. The vessel(s) selected by the applicant should be listed in the proposal, if possible, or specifically identified prior to final approval by NOAA. Proposals may request that the quota set-aside be collected separately from the research trip or other related research trip. The separate compensation trips do not necessarily have to be conducted by the same vessel. The Council or NMFS contact person may provide assistance to researchers who are seeking vessels to participate in the collection of set-aside species or directly in research projects.

The researcher's proposal must state the amount of funds required to support the research project, as well as the amount required to compensate the vessel owner either for the collection of set-aside species or for participation in the research project, or both. The proposal must also include the agreement between the vessel owner and researcher that shows exactly how the research activity is to be paid for, if possible, or such agreement must be provided prior to final approval by NOAA.

I. Project Funding Priorities

The Council and NOAA will give priority to funding research proposals in the following areas identified as research priorities by the Council and Commission for the 2002 fishing year (not listed in order of priority):

1. Bycatch and discard reduction concerning: (a) Distinctions between regulatory discards and bycatch attributed to gear, including mesh selectivity and/or overall gear design in the summer flounder fishery; (b) gear modifications in the Loligo squid fishery to reduce scup bycatch; and (c) discard studies in the Loligo and scup fisheries;

2. Mesh and gear selectivity focusing on: (a) The examination of summer flounder catch composition in small-mesh net fisheries within the summer flounder small-mesh exemption area; (b) summer flounder mesh selectivity studies; (c) scup mesh selectivity; (d) squid mesh selectivity; (e) black sea bass mesh selectivity; and (f) the development of threshold triggers based on gear and fishery characteristics;

3. Fishing impacts on habitat pertaining to: (a) Mobile gear impacts on tilefish burrows; (b) identification of scup spawning areas and scup larvae settlement areas in coastal/estuarine waters; and (c) identification of benthic habitat of juvenile and adult black sea bass, and scup offshore wintering areas;

4. Cooperative stock assessment surveys focusing on: (a) The use of hydro-acoustic methods to determine abundance of Atlantic mackerel; and (b) cooperative stock assessment surveys in the summer flounder fishery;

5. Improved recreational fishery data focusing on: (a) Research to enhance the overall knowledge of the recreational fishery; and (b) statistical models to evaluate the effectiveness of recreational management measures and/or data collection process; and

J. Evaluation Criteria

The review panel convened by NOAA to evaluate proposals submitted in response to this RFP (see section L of this notice), will evaluate proposals based by assigning scores up to the maximum indicated for each of the following criteria:

1. A clear definition of the problem, need, issue or hypothesis to be addressed (10 points);

2. A clear definition of the approach to be used, including theoretical studies, laboratory analyses, and/or field work (15 points);

3. Adequate justification as to how the project is likely to achieve its stated objectives (15 points);

4. Identification of anticipated benefits, potential users and methods of disseminating results (10 points);

5. Relevance of the project to the project funding priorities identified by the Council (see section I of this notice) (20 points);

6. Demonstration of support, cooperation and/or collaboration with the fishing industry (10 points);

7. Cost-effectiveness of the project (10 points); and

8. Consistency of the data format generated from the research with NMFS' and Atlantic Coast Cooperative Statistical Program's (ACCSP) databases (10 points).

K. Selection Procedures

NOAA will solicit written technical evaluations from the Council’s Comprehensive Management Committee (Committee) and from three or more appropriate private and public sector experts to score proposals using the criteria specified in section J of this notification to determine the technical merit of the proposal. Following completion of the technical evaluation, NOAA will convene a review panel, including the Committee and technical experts, to review and individually critique the scored proposals to enhance NOAA’s understanding of the proposals. Based on a proposal’s average score and rank order based on average scores, comments provided by the review panel, and the following program policy factors, NOAA will make recommendations for each proposal to the selecting official and inform the Council of its recommendations. The program policy factors are: (1) The time of year the research activities are to be conducted; (2) the ability of the proposal to meet the experimental fishery requirements discussed under Section N of this notice; (3) the ability of the researchers to physically complete the proposed research in the areas and time allotted; and (4) redundancy of research projects. Therefore, the highest scoring projects may not necessarily be selected for an award. The selecting official will provide final approval of the projects to allow NMFS to exempt selected vessel(s) from specific regulations implementing the respective FMPs through written notification to the applicant.

For proposals that request exemptions from existing regulations, the impacts of the proposed exemptions must be analyzed. The Council will analyze these impacts as part of the impacts of the proposed specifications for the upcoming fishing year for inclusion in the annual quota specification packages it submits to NMFS. However, those individuals with proposals that include vessel activities that extend beyond the scope of the analysis provided by the Council may be required to provide additional analysis before issuance of an EFP will be considered (see section N). However, any researchers who request regulatory exemptions that are beyond the scope of the Council analysis may be required to obtain an Exempted Fishing Permit (EFP) from NMFS (see section N). If issuance of an EFP is necessary for the research to be conducted, the final decision on the applicant’s proposal for research quota will not be made by NOAA until NMFS advises that the applicant's EFP request is approved.

L. Proposal Format

Proposals should be limited to seven pages, excluding item 6 below. The format may vary but must include:

1. A project summary;

2. A narrative project description to include: (a) Project goals and objectives; (b) the relationship of the proposed project to management needs or priorities identified by the Council; (c) a statement of work (project design and management including who is responsible, expected products, and participants other than applicant); and (d) a summary of the existing state of knowledge related to the project and contribution and relevance of the proposed work;

3. A description of all funding sources (including revenues derived from the sale of the species harvested under the research quota set-aside) and funding needs. This element of the proposal must include the amount of research quota set-aside requested for each species and the expected funds to be generated by the sale of those species, also the expected percentage of funds to be allocated to the researcher and any involved fishing vessel;

4. A budget that includes a breakdown of costs, including permit costs, equipment, supplies, and overhead. Applicants must submit a Standard Form 424 “Application for Federal Assistance” including a detailed budget using Standard Form 424A, “Budget Information-- Non-Construction Programs,” Standard Form 424B, “Assurances - Non-Construction Programs,” and Commerce Department Form CD-511, “Certifications Regarding Debarment, Suspension and Other Responsibility Matters: Drug-Free Workplace Requirements and Lobbying.” Copies of these Standard Forms may be found on the Internet in a PDF version at http://www.ofa.noaa.gov/ÿ7Egrants/index.html under the title “Grants Management Forms”;

5. A list of any Federal or state regulations that the applicant needs to have waived and a brief justification for such a waiver. Note that requests for waivers of state regulations will be forwarded to the appropriate state agency(s). The Federal Government cannot guarantee that state agencies will accede to any particular request; and

6. Supporting documents including resumes, cooperative research agreements, and contracts.

M. Final Reports and Data Submission

NOAA will require project researchers to submit to NOAA, with a copy to the Council, an interim and/or final report describing their research project results, or other acceptable deliverable(s), in a timeframe that is specific to the type of research conducted. The format of the final report may vary, but must contain:

1. A brief summary of the final report;

2. A description of the issue/problem that was addressed;

3. A detailed description of methods of data collection and analyses;

4. A discussion of results and any relevant conclusions presented in a format that is understandable to a non-technical audience; this should include benefits and/or contributions to management decision-making;

5. A list of entities, firms, or organizations that actually performed the work and a description of how the work was accomplished; and

6. A detailed final accounting of all funds used to conduct research, including those provided through the research set-aside. The financial information must be submitted on Office of Management and Budget Standard Form-269. Copies of this Standard Form may be found on the Internet in a PDF version at http://www.ofa.noaa.gov/ÿ7Egrants/index.html under the title “Grants Management Forms.” Projects designed to collect new data for inclusion in NMFS’ or ACCSP's databases must submit the data in electronic format with appropriate documentation. Certain databases will have highly specific requirements as to required fields and content. Researchers must agree to provide newly collected data in a format acceptable to the administrators of the receiving database.

N. Other Requirements

It is intended that the Council staff bear the primary responsibility for the evaluations of impacts associated with the research, including analysis of any requested regulatory waivers. However, researchers proposing research and/or compensation fishing that goes beyond the scope of analysis provided by the Council staff in the Council’s annual specification packages may be required to obtain an EFP from NMFS. Should a researcher be required to submit a request for an EFP to NMFS at least 60 days before the requested start date of the proposed research to allow for additional analysis. A final decision on the applicant's grant request for research quota will not be made until NMFS has approved the applicant's EFP request.

O. Other Requirements of Recipients

1. Federal Policies and Procedures

Recipients and subrecipients are subject to all Federal laws and Federal and DOC policies, regulations, and procedures applicable to Federal financial assistance awards.

2. Past Performance

Unsatisfactory performance under prior Federal awards may result in a proposal not being selected.

3. Delinquent Federal Debt

A proposal submitted by an applicant who has an outstanding delinquent Federal debt is not eligible for selection until either:

i. The delinquent account is paid in full;

ii. A negotiated repayment schedule is established and at least one payment is received; or

iii. Other arrangements satisfactory to DOC are made.

4. Name Check Review

All non-profit and for-profit applicants are subject to a name check review process. Name checks are intended to reveal if any key individuals associated with the applicant have been convicted of or are presently facing criminal charges such as fraud, theft, perjury, or other matters that significantly reflect on the applicant's management honesty or financial integrity.

5. Primary Applicant Certifications

All primary applicants must submit a completed Form CD-511, “Certifications Regarding Debarment, Suspension and Other Responsibility Matters; Drug-Free Workplace Requirements and Lobbying,” and the following explanations are hereby provided:

i. Nonprocurement Debarment and Suspension. Prospective participants (as defined at 15 CFR 26.105) are subject to 15 CFR part 26, “Nonprocurement Debarment and Suspension ” and the related section of the certification form prescribed above applies;

ii. Drug-Free Workplace. Grantees (as defined at 15 CFR 26.605) are subject to 15 CFR part 26, Subpart F, “Governmentwide Requirements for Drug-Free Workplace (Grants)” and the related section of the certification form prescribed above applies;

iii. Anti-Lobbying. Persons (as defined at 15 CFR 28.105) are subject to the lobbying provisions of 31 U.S.C. part 1352, “Limitation on use of appropriated funds to influence certain Federal contracting and financial transactions.” The lobbying section of the certification form prescribed above applies to applications/bids for grants, cooperative agreements, and contracts for more than $100,000, and loans and loan guarantees for more than $150,000; and

iv. Anti-Lobbying Disclosures. Any applicant who has paid or will pay for lobbying using any funds must submit an SF-LLL, “Disclosure of Lobbying Activities,” as required under 15 CFR part 28, appendix B.

6. Lower Tier Certifications

Recipients shall require applicants/bidders for subgrants, contracts, subcontracts, or other lower tier covered transactions at any tier under the award to submit, if applicable, a completed Form CD-512, “Certifications Regarding Debarment, Suspension, Ineligibility and Voluntary Exclusion--Lower Tier Covered Transactions and Lobbying ” and disclosure form, SF-LLL, “Disclosure of Lobbying Activities.” Form CD-512 is intended for the use of recipients and should not be transmitted to DOC. An SF-LLL submitted by any tier recipient or subrecipient should be submitted to DOC in accordance with the instructions contained in the award document.

7. False Statements

A false statement on an application is grounds for denial or termination of funds and grounds for possible punishment by a fine or imprisonment as provided in 18 U.S.C. 1001.

8. Preaward Activities

If you incur any costs prior to receiving an award agreement signed by an authorized NOAA official, you do so solely at your own risk of these costs not being included under the award. Notwithstanding any verbal or written assurance that you may have received, preaward costs are not allowed under the award unless the grants officer approves them in accordance with 15 CFR 14.28.

9. Future Awards

If NOAA approves an application to perform research to be conducted with the research quota set-aside, NOAA has no obligation to provide future research quota set-aside obligations in connection with that award above that specified in the approved grant.

Classification

Prior notice and opportunity for public comments are not required by the Administrative Procedure Act or any other law for this notice concerning grants, benefits, and contracts (5 U.S.C. 553(a)(2)).

Because a general notice of proposed rulemaking as specified in 5 U.S.C. 533, or any other law, was not required for this action, the analytical requirements of the Regulatory Flexibility Act, 5 U.S.C. 601 et seq., are not applicable.

This notice contains collection-of-information requirements subject to the Paperwork Reduction Act. The use of Standard Forms 269, 424, 424A, 424B, and SF-LLL have been approved by OMB under the respective control numbers 0348-0039, 0348-0043, 0348-0044, 0348-0040, and 0348-0046.

Notwithstanding any other provision of law, no person is required to respond to, nor shall any person be subject to a penalty for failure to comply with, a collection of information subject to the Paperwork Reduction Act, unless that collection displays a currently valid OMB control number.

This action has been determined to be not significant for purposes of Executive Order 12866.

Dated: July 19, 2001.
John Oliver,
Acting Assistant Administrator for Fisheries, National Marine Fisheries Service.

[FR Doc. 01-18574 Filed 7-24-01; 8:45 am]

BILLING CODE 3510-22-S